OFFICE OF PERSONNEL MANAGEMENT

January 2024 Pay Schedules

AGENCY: Office of Personnel Management.

ACTION: Notice.

SUMMARY: The President adjusted the rates of basic pay and locality payments for certain Federal civilian employees effective in January 2024. The Executive Order authorizes a 4.7 percent across-the-board increase for statutory pay systems and locality pay increases costing approximately 0.5 percent of basic payroll, reflecting an overall average pay increase of 5.2 percent. This notice serves as documentation for the public record.

FOR FURTHER INFORMATION CONTACT: Tameka Gillis; Pay, Leave, and Workforce Flexibilities; Workforce, Policy and Innovation; Office of Personnel Management; (202) 606-2858 or paypolicy@opm.gov.

SUPPLEMENTARY INFORMATION: On December 21, 2023, the President signed Executive Order (E.O.) 14113 (88 FR 89259), which implemented pay adjustments for certain Federal civilian employees in January 2024. E.O. 14113 provides an overall average pay increase of 5.2 percent for the statutory pay systems. This is consistent with the President's alternative pay plan issued under 5 U.S.C. 5303(b) and 5304a on August 31, 2023. The pay rates in E.O. 14090 have been superseded.

The publication of this notice satisfies the requirement in Section 5(b) of E.O. 14113 that the Office of Personnel Management (OPM) publish appropriate notice of the 2024 locality payments in the Federal Register.

Schedule 1 of E.O. 14113 provides the rates for the 2024 General Schedule (GS) and reflects a 4.7 percent increase from 2023. Executive Order 14113 also includes the percentage amounts of the 2024 locality payments. (See Section 5 and Schedule 9 of Executive Order 14113.)

General Schedule employees receive locality payments under 5 U.S.C. 5304. Locality payments apply in the United States (as defined in 5 U.S.C. 5921(4)) and its territories and possessions. In 2024, locality payments ranging from 16.82 percent to 45.41 percent apply to GS employees in the 58 locality pay areas. The 2024 locality pay area definitions ¹ can be found on OPM's website.

¹ Office of Personnel Management. “2024 Locality Pay Area Definitions.” https://www.opm.gov/policy-data-oversight/pay-leave/salaries-wages/2024/locality-pay-area-definitions/.

The 2024 locality pay percentages became effective the first day of the first pay period beginning on or after January 1, 2024 (January 14, 2024). An employee's locality rate of pay is computed by increasing his or her scheduled annual rate of pay (as defined in 5 CFR 531.602) by the applicable locality pay percentage. (See 5 CFR 531.604 and 531.609.)

Executive Order 14113 establishes the new Executive Schedule (EX), which incorporates a 4.6 percent increase required under 5 U.S.C. 5318 (rounded to the nearest $100). By law, Executive Schedule officials are not authorized to receive locality payments.

Executive Order 14113 establishes the 2024 range of rates of basic pay for members of the Senior Executive Service (SES) under 5 U.S.C. 5382. The minimum rate of basic pay for the SES is $147,649 in 2024. The maximum rate of the SES rate range is $221,900 (level II of the Executive Schedule) for SES members who are covered by a certified SES performance appraisal system and $204,000 (level III of the Executive Schedule) for SES members who are not covered by a certified SES performance appraisal system.

The minimum rate of basic pay for the senior-level (SL) and scientific and professional (ST) rate range was increased by 4.7 percent ($147,649 in 2024), which is the amount of the across-the-board GS increase. The applicable maximum rate of the SL/ST rate range is $221,900 (level II of the Executive Schedule) for SL or ST employees who are covered by a certified SL/ST performance appraisal system and $204,000 (level III of the Executive Schedule) for SL or ST employees who are not covered by a certified SL/ST performance appraisal system. Agencies with certified performance appraisal systems for SES members and employees in SL and ST positions must also apply a higher aggregate limitation on pay—up to the Vice President's salary ($284,600 in 2024.)

Note that section 747 of title VII of division B of the Further Consolidated Appropriations Act, 2024 (Pub. L. 118-47, March 23, 2024), contains a provision that continues the freeze on the payable pay rates for the Vice President and certain senior political appointees at the rates of pay and applicable limitations on payable rates of pay throughout calendar year 2024. Unless extended by new legislation, the pay freeze will end on the last day of the last pay period that begins in calendar year 2024 (i.e., January 11, 2025, for those on the standard biweekly payroll cycle.) Future Congressional action will determine whether the pay freeze continues beyond that date. OPM guidance on the continued pay freeze for certain senior political officials can be found in CPM 2024-09.² OPM also provided guidance on the continued pay freeze for certain senior political officials in CPM-2024-02 ³ and CPM-2024-07.⁴

² Office of Personnel Management. “Continued Pay Freeze for Certain Senior Political Officials.” https://www.chcoc.gov/content/continued-pay-freeze-certain-senior-political-officials-12.

³ Office of Personnel Management. “Continued Pay Freeze for Certain Senior Political Officials.” https://www.chcoc.gov/content/continued-pay-freeze-certain-senior-political-officials-9.

⁴ Office of Personnel Management. “Continued Pay Freeze for Certain Senior Political Officials.” https://www.chcoc.gov/content/continued-pay-freeze-certain-senior-political-officials-11.

Executive Order 14113 provides that the rates of basic pay for administrative law judges (ALJs) under 5 U.S.C. 5372 are increased by 4.7 percent (rounded to the nearest $100) in 2024 (except for those at AL-1 who received a 4.6 percent increase). The rate of basic pay for AL-1 is $191,900 (equivalent to the rate for level IV of the Executive Schedule). The rate of basic pay for AL-2 is $187,300. The rates of basic pay for AL-3/A through 3/F range from $128,200 to $177,600.

The rates of basic pay for members of Contract Appeals Boards are calculated as a percentage of the rate for level IV of the Executive Schedule. (See 5 U.S.C. 5372a.) Therefore, these rates of basic pay are increased by 4.6 percent in 2024.

On November 29, 2023, OPM issued a memorandum ⁵ on behalf of the President's Pay Agent (the Secretary of Labor and the Directors of the Office of Management and Budget and OPM) that continues GS locality payments for ALJs and certain other non-GS employee categories in 2024. By law, EX officials, SES members, employees in SL/ST positions, and employees in certain other equivalent pay systems are not authorized to receive locality payments. (Note: An exception applies to certain grandfathered SES, SL, and ST employees stationed in a nonforeign area on January 2, 2010. See CPM 2009-27).⁶

⁵ Office of Personnel Management. “Continuation of Locality Payments for Non-General Schedule Employees.” https://www.opm.gov/policy-data-oversight/pay-leave/salaries-wages/2023/extension-of-locality-payments-for-non-general-schedule-employees-november-29-2023.pdf.

⁶ Office of Personnel Management. “Nonforeign Area Retirement Equity Assurance Act.” https://www.chcoc.gov/content/nonforeign-area-retirement-equity-assurance-act.

On December 21, 2023, OPM issued a memorandum (CPM 2023-20) ⁷ on the 2024 pay adjustments. The memorandum transmitted Executive Order 14113 and provided the 2024 salary tables, locality pay areas and percentages, and information on general pay administration matters and other related guidance. The 2024 “Salaries & Wages” posted on OPM's website ⁸ are the official rates of pay for affected employees and are hereby incorporated as part of this notice.

⁷ Office of Personnel Management. “January 2024 Pay Adjustments.” https://chcoc.gov/content/january-2024-pay-adjustments.

⁸ Office of Personnel Management. “Salaries & Wages.” http://www.opm.gov/policy-data-oversight/pay-leave/salaries-wages/

Office of Personnel Management.
Kayyonne Marston,
Federal Register Liaison.

[FR Doc. 2024-15653 Filed 7-16-24; 8:45 am]

BILLING CODE 6325-39-P